DEPARTMENT OF HEALTH AND HUMAN SERVICES

[Document Identifier: OS-0990-New; 30-day Notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Consumer Survey of Attitudes Toward the Privacy and Security Aspects of Electronic Health Records and Electronic Health Information Exchange (New)—OMB No. 0990-NEW—Office of the National Coordinator for Health Information Technology

Abstract: The widespread use of electronic health records and electronic health information exchange promises an array of potential benefits for individuals and the U.S. health care system through improved health care quality, safety, and efficiency. At the same time, this environment poses new challenges and opportunities for protecting health information. The proposed information collection will permit us to better understand individuals' attitudes toward the privacy and security aspects of the use of electronic health records and electronic health information exchange as well as inform policy and programmatic objectives. The Office of the National Coordinator for Health Information Technology (ONC) is proposing to conduct a nationwide survey which will use computer-assisted telephone interviews (CATI) to interview a representative sample of the general population annually for 5 years looking at the percentage of individuals who are concerned about the privacy and security of electronic health records, who report having kept any part of their medical history from their doctor due to privacy concerns, and who are concerned that an unauthorized person would see their medical information if it is sent electronically, among other key measures. ONC will assess whether these numbers increase, remain steady or decrease from 2012 (pre-implementation) to 2016 (post-implementation) in support of the ONC Coordinated Federal Health IT Strategic Plan to engage consumers and inspire confidence and trust in health IT. The data will be analyzed using statistical methods and a draft report will be prepared. ONC will hold a Web seminar prior to the publication of the final report to convey the findings to the general public. A final report will be posted on http://healthit.hhs.gov.

ONC expects to interview 100 individuals for the pretest survey as part of the initial implementation year and interview 2,000 individuals for the main survey administered annually for 5 years. The estimated annualized respondent burden is 842 hours.

Estimated Annualized Burden Table
Forms | Type of respondent | Number of respondents | Number of responses per respondent | Average burden (in hours) per response | Total burden hours
Pretest Survey | General Public | 100 | 1 | 25/60 | 42
Main Survey | General Public | 10,000 | 1 | 25/60 | 4167
Total |  | 10,100 | 1 | 25/60 | 4209

For more information regarding an Estimated Annual Respondent Burden specifically for cognitive testing please refer to OMB Control No: 0990-0376, Communications Testing for Comprehensive Communication Campaign for HITECH Act (expiration date 07/31/2014; ICR Reference No: 201106-0990-005).

Keith A. Tucker,
Office of the Secretary, Paperwork Reduction Act Clearance Officer.

[FR Doc. 2012-3879 Filed 2-17-12; 8:45 am]

BILLING CODE P